DEPARTMENT OF COMMERCE

National Oceanic and Atmospheric Administration

RIN 0648-XC925

South Atlantic Fishery Management Council (Council); Public Meetings

AGENCY: National Marine Fisheries Service (NMFS), National Oceanic and Atmospheric Administration (NOAA), Commerce.

ACTION: Notice of public scoping via webinar.

SUMMARY: The South Atlantic Fishery Management Council (Council) will hold a scoping meeting pertaining to Amendment 31 to the Snapper Grouper Fishery Management Plan (FMP).

DATES: The scoping meeting will be held via webinar on November 7, 2013, beginning at 6 p.m. Information on how to register for the webinar will be posted to the Council's Web site at www.safmc.net.

Written comments: Written comments for Snapper Grouper Amendment 31 will be accepted November 1-20, 2013. Email comments to: SGAmend31Comments@safmc.net. Comments may also be submitted in writing to: Bob Mahood, South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION: The Council will hold a scoping meeting via webinar on Amendment 31 to the Snapper Grouper FMP. The amendment addresses actions to separate blueline tilefish from the deepwater management complex; establish Acceptable Biological Catch (ABC), Annual Catch Limit (ACL), Sector ACLs, and a Recreational Annual Catch Target (ACT) for blueline tilefish and for the remainder of the deepwater management complex; and establish a rebuilding program for blueline tilefish.

Council staff will present an overview of the amendment and be available for questions at the beginning of the hearing. Members of the public will have the opportunity to go on record after the presentation to formally record their comments for consideration by the Council. A summary document for the amendment will be posted to the Council's Web site at www.safmc.net.

Special Accommodations

These meetings are physically accessible to people with disabilities. Requests for auxiliary aids should be directed to the council office (see ADDRESSES) three (3) days prior to the meeting.

Authority: 16 U.S.C. 1801 et seq.

Dated: October 18, 2013.
Tracey Thompson,
Acting Deputy Director, Office of Sustainable Fisheries, National Marine Fisheries Service.

[FR Doc. 2013-24903 Filed 10-23-13; 8:45 am]

BILLING CODE 3510-22-P